DEPARTMENT OF JUSTICE

Notice of Lodging of Consent Decree Under the Comprehensive Environmental Response, Compensation, and Liability Act

Notice is hereby given that on August 8, 2012, a proposed Consent Decree in United States v. Northern States Power Co., Civil Action 3:12-cv-00565, was lodged with the United States District Court for the Western District of Wisconsin.

In this action, the United States and the State of Wisconsin brought claims against Northern States Power Co. (“Defendant”) for response costs, injunctive relief, and natural resource damages associated with the release and threatened release of hazardous substances from facilities at and near the Ashland/Northern States Power Lakefront Superfund Site in northwestern Wisconsin (hereinafter the “Site”), pursuant to the Comprehensive Environmental Response, Compensation, and Liability Act, 42 U.S.C. 9601 et seq. (“CERCLA”). The proposed Consent Decree requires Defendant to perform the on-land portion of the Site cleanup at a cost of approximately $40 million and transfer approximately 1400 acres of land to be set aside for conservation in order to benefit the natural resources affected by the hazardous substances at the Site.

The Department of Justice will receive for a period of thirty (30) days from the date of this publication comment relating to the Consent Decree. Comments should be addressed to the Assistant Attorney General, Environment and Natural Resources Division, and either emailed to pubcomment-ees.enrd@usdoj.gov or mailed to P.O. Box 7611, U.S. Department of Justice, Washington, DC 20044-7611, and should refer to United States v. Northern States Power Company, Case No. 3:12-cv-00565(W.D. Wis.), D.J. Ref. No. 90-11-2-08879.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Environment and Natural Resources Division, Environmental Enforcement Section, fax no. (202) 514-0097, phone confirmation number (202) 514-5271, email EESCDCopy.ENRD@usdoj.gov. If requesting a copy from the Consent Decree Library, please enclose a check in the amount of $138.50 for a copy of the complete Consent Decree (25 cents per page reproduction cost) or $14.50 for a copy exclusive of exhibits and defendants' signatures, payable to the U.S. Treasury or, if by email or fax, forward a check in that amount to the Consent Decree Library at the stated address.

Maureen Katz,
Assistant Section Chief, Environmental Enforcement Section, Environment and Natural Resources Division.

[FR Doc. 2012-19875 Filed 8-13-12; 8:45 am]

BILLING CODE 4410-15-P